DEPARTMENT OF LABOR

Employment and Training Administration

Notice of Availability of Funds and Funding Opportunity Announcement for America's Promise Grants

AGENCY: Employment and Training Administration, Labor.

ACTION: Notice of Funding Opportunity Announcement.

Funding Opportunity Number: FOA-ETA-16-12.

SUMMARY: The Employment and Training Administration (ETA), U.S. Department of Labor (DOL), announces the availability of approximately $100 million in grant funds authorized under the American Competitiveness and Workforce Improvement Act of 1998 (ACWIA), as amended (codified at 29 U.S.C. 3224a) for America's Promise Job-driven Grant Program.

Under this Funding Opportunity Announcement (FOA), DOL will award grants through a competitive process to organizations to create or expand regional partnerships between employers, economic development, workforce development, community colleges, training programs, K-12 education systems, and community-based organizations that make a commitment to provide a pipeline of workers to fill existing job openings. DOL expects to fund approximately 20-40 grants, with individual grant amounts ranging from $1 million to $6 million. The grant period for performance for this FOA is 48 months, including all necessary implementation and start-up activities.

The complete FOA and any subsequent FOA amendments in connection with this funding opportunity are described in further detail on ETA's Web site at https://www.doleta.gov/grants/find_grants.cfm or on http://www.grants.gov/. The Web sites provide application information, eligibility requirements, review and selection procedures, and other program requirements governing this funding opportunity.

DATES: The closing date for receipt of applications under this announcement is August 25, 2016. Applications must be received no later than 4 p.m. Eastern Time.

FOR FURTHER INFORMATION CONTACT: Ariam Ferro, 200 Constitution Avenue NW., Room N-4716, Washington, DC 20210; Telephone: 202-693-3968.

Signed June 9, 2016, in Washington, DC, by
Eric D. Luetkenhaus,
Grant Officer, Employment and Training Administration.

[FR Doc. 2016-14286 Filed 6-16-16; 8:45 am]

BILLING CODE 4510-FN-P